DEPARTMENT OF ENERGY

[Docket No. RP01-396-000]

Northern Natural Gas Company; Notice of Proposed Changes in FERC Gas Tariff

May 4, 2001.

Take notice that on May 1, 2001 Northern Natural Gas Company (Northern) tendered for filing to become part of Northern's FERC Gas Tariff, the following tariff sheets to be effective June 1, 2001:

Fifth Revised Volume No. 1

56 Revised Sheet No. 50

57 Revised Sheet No. 51

24 Revised Sheet No. 52

54 Revised Sheet No. 53

Sixth Revised Sheet No. 56

16 Revised Sheet No. 59

Second Revised Sheet No. 59A

21 Revised Sheet No. 60

Second Revised Sheet No. 60A

Original Volume No. 2

164 Revised Sheet No. 1C

40 Revised Sheet No. 1C.a

Northern states that this filing is to revise Northern's rates, effective June 1, 2001, to reflect an adjustment for the return and tax components associated with the System Levelized Account (SLA) balance as of March 31, 2001.

Northern states that copies of the filing were served upon Northern's customers and interested State Commissions.

Any person desiring to be heard or to protest said filing should file a motion to intervene or a protest with the Federal Energy Regulatory Commission, 888 First Street, N.E., Washington, D.C. 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (Call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-11789 Filed 5-9-01; 8:45 am]

BILLING CODE 6717-01-M